DEPARTMENT OF EDUCATION

[Docket No.: ED-2023-SCC-0001]

Agency Information Collection Activities; Submission to the Office of Management and Budget for Review and Approval; Comment Request; Evaluation of the REL West Supporting Early Reading Comprehension Through Teacher Study Groups Toolkit

AGENCY: Institute of Education Sciences (IES), Department of Education (ED).

ACTION: Notice.

SUMMARY: In accordance with the Paperwork Reduction Act (PRA) of 1995, the Department is proposing a new information collection request (ICR).

DATES: Interested persons are invited to submit comments on or before May 26, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Elizabeth Nolan, (312) 703-1532.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the REL West Supporting Early Reading Comprehension through Teacher Study Groups Toolkit.

OMB Control Number: 1850-NEW.

Type of Review: New ICR.

Respondents/Affected Public: Individuals or Households.

Total Estimated Number of Annual Responses: 6,012.

Total Estimated Number of Annual Burden Hours: 1,255.

Abstract: The current authorization for the Regional Educational Laboratories (REL) program is under the Education Sciences Reform Act of 2002, Part D, Section 174, (20 U.S.C. 9564), administered by the Department of Education, Institute of Education Sciences (IES), National Center for Education Evaluation and Regional Assistance (NCEE). The central mission and primary function of the RELs is to support applied research and provide technical assistance to state and local education agencies within their region (ESRA, Part D, section 174[f]). The REL program's goal is to partner with educators and policymakers to conduct work that is change-oriented and supports meaningful local, regional, or state decisions about education policies, programs, and practices to improve outcomes for students.

Elementary-grade students in U.S. public schools continue to struggle with reading comprehension, with only 35 percent of 4th-grade students performing at or above proficient on the National Assessment of Educational Progress (NAEP) scores in reading (Hussar et al., 2020). To address this problem in earlier grades, when schools begin reading comprehension instruction, REL West is developing a toolkit to support teachers in implementing evidence-based instructional strategies to improve reading comprehension among students in grades K-3. The toolkit is based on the Improving Reading Comprehension in Kindergarten Through 3rd Grade IES practice guide (Shanahan et al., 2010) and is being developed in collaboration with state and district partners in Arizona. The toolkit contains the following three parts: (1) Initial Diagnostic and On-going Monitoring Instruments, (2) Professional Development Resources, and (3) Steps for Institutionalizing Supports for Evidence-Based Practice.

This study is designed to measure the efficacy and implementation of the REL West-developed toolkit designed to improve reading comprehension among students in grades K-3. The toolkit evaluation team plans to conduct an independent evaluation using a school-level, cluster randomized controlled trial design to assess the efficacy and cost-effectiveness of the school-based professional development resources included in the toolkit. The evaluation will take place in 70 schools across six districts in Arizona and focus on K-3 reading comprehension for all students. The evaluation will also assess how teachers and facilitators implement the toolkit to provide context for the efficacy findings and guidance to improve the toolkit and its future use. The toolkit evaluation will produce a report for district and school leaders who are considering strategies to improve reading comprehension in kindergarten through 3rd grade. The report will be designed to help district and school leaders decide whether and how to use the toolkit to help them implement the practice guide recommendations.

Dated: April 20, 2023.
Juliana Pearson,
PRA Coordinator, Strategic Collections and Clearance, Governance and Strategy Division, Office of Chief Data Officer, Office of Planning, Evaluation and Policy Development.

[FR Doc. 2023-08755 Filed 4-25-23; 8:45 am]

BILLING CODE 4000-01-P